GOVERNMENT PRINTING OFFICE

Depository Library Council to the Public Printer; Meeting

The Depository Library Council to the Public Printer (DLC) will meet on Sunday, April 1, 2001, through Wednesday, April 4, 2001, in San Antonio, Texas. The sessions will take place from 7:30 p.m. until 10 p.m. on Sunday, 8:30 a.m. until 5 p.m. on Monday and Tuesday and from 8:30 a.m. until 3:30 p.m. on Wednesday. The meeting will be held at the Adam's Mark San Antonio Riverwalk Hotel, 111 Pecan Street East, San Antonio, Texas. The purpose of this meeting is to discuss the Federal Depository Library Program. All sessions are open to the public.

A limited number of hotel rooms have been reserved at the Adam's Mark San Antonio Riverwalk Hotel for anyone needing hotel accommodations. Telephone: 210-354-2800. Please specify the U.S. Government Printing Office when you contact the hotel. Room cost per night is $91 (plus tax) per night single and $115 (plus tax) per night double, triple or quad through March 5, 2001.

Michael F. DiMario,
Public Printer.

[FR Doc. 01-4855 Filed 2-27-01; 8:45 am]

BILLING CODE 1520-01-P